DEPARTMENT OF TRANSPORTATION

Federal Aviation Administration

Aviation Rulemaking Advisory Committee; Airport Certification Issues—New Task

AGENCY: Federal Aviation Administration (FAA), DOT.

ACTION: Notice of new task assignment for the aviation rulemaking advisory committee (ARAC).

SUMMARY: The FAA assigned the Aviation Rulemaking Advisory Committee a new task to develop a Notice of Proposed Rulemaking (NMRM) to implement any modifications, deletions, or additions identified in the review of 14 CFR part 139 subpart D. This notice is to inform the public of this ARAC activity.

FOR FURTHER INFORMATION CONTACT: Ben Castellano, 800 Independence Ave., SW., Washington, DC 20591, (202) 267-8728, ben.castellano@faa.gov.

SUPPLEMENTARY INFORMATION:

Background

The FAA established the Aviation Rulemaking Advisory Committee to provide advice and recommendations to the FAA Administrator on the FAA's rulemaking activities with respect to aviation-related issues.

The Task

1. Review the existing aircraft rescue and firefighting (ARFF) requirements contained in 14 CFR part 139, subpart D and identify ARFF requirements that should be added, modified, or deleted. This review should include the current rule and any other documents the agency may have issued regarding part 139, subpart D, and any ARFF standards issued by other organizations.

As part of this project, ARAC should address the following issues:

a. The number of trucks and amount of agent,

b. Vehicle response times, and

c. Staffing requirements.

2. Develop an NPRM to incorporate the modifications, deletions, and additions identified in the preceding reviews. The NPRM should include the preamble and rule language along with any supporting legal analysis.

3. ARAC may be asked to recommend the disposition of any substantive comments the agency received in response to the NPRM.

Schedule: Recommendations to the FAA in the form of an NPRM will be due to the FAA by April 11, 2003.

ARAC Acceptance of Tasks

ARAC accepted the task and assigned the task to the newly formed Rescue and Firefighting Requirements Working Group, Airport Certification Issues. The working group will serve as staff to ARAC and assist in the analysis of the assigned task. ARAC must review and approve working group recommendations. If ARAC accepts the working group's recommendations, it will forward them to the FAA. The agency seeks ARAC's advice and recommendations on this important issue. Recommendations that are received from ARAC will be submitted to the agency's Rulemaking Management Council to address the availability of resources and prioritization.

Working Group Activity

The Rescue and Firefighting Requirements Working Group is expected to comply with the procedures adopted by ARAC. As part of the procedures, the working group is expected to:

1. Recommend a work plan for completion of the task, including the rationale supporting such a plan for consideration at the next meeting of the ARAC Airport Certification Issues held following publication of this notice.

2. Give a detailed conceptual presentation of the proposed recommendations prior to proceeding with the work stated in item 3 below.

3. Draft the appropriate documents and required analyses and/or any other related materials or documents.

4. Provide a status report at each meeting of the ARAC held to consider airport certifications issues.

Participation in the Working Group

The Rescue and Firefighting Requirements Working Group will be composed of technical experts having an interest in the assigned task. A working group member need not be a representative or a member of the full committee.

An individual who has expertise in the subject matter and wishes to become a member of the working group should write to the person listed under the caption FOR FURTHER INFORMATION CONTACT expressing that desire, describing his or her interest in the task, and starting the expertise he or she would bring to the working group. All requests to participate must be received no later than April 30, 2001. The requests will be reviewed by the assistant chair, the assistant executive director, and the working group chair. Individuals will be advised whether or not their request can be accommodated.

Individuals chosen for membership on the working group will be expected to represent their aviation community segment and actively participate in the working group (e.g., attend all meetings, provide written comments when requested to do so, etc.). They also are expected to devote the resources necessary to support the working group in meeting any assigned deadlines. Members are expected to keep their management chain and those they may represent advised of working group activities and decisions to ensure that the proposed technical solutions do not conflict with their sponsoring organization's position when the subject being negotiated is presented to ARAC for approval.

Once the working group has begun deliberations, members will not be added or substituted without the approval of the assistant chair, the assistant executive director, and the working group chair.

The Secretary of Transportation determined that the formation and use of the ARAC is necessary and in the public interest in connection with the performance of duties imposed on the FAA by law.

Meetings of the ARAC will be open to the public. Meetings of the Rescue and Firefighting Requirements Working Group will not be open to the public, except to the extent that individuals with an interest and expertise are selected to participate. The FAA will make no public announcement of working group meetings.

Issued in Washington, DC, on March 14, 2001.
Anthony F. Fazio,
Executive Director, Aviation Rulemaking Advisory Committee.

[FR Doc. 01-7058 Filed 3-21-01; 8:45 am]

BILLING CODE 4910-13-M